DEPARTMENT OF STATE

[Public Notice: 11332]

Republic of Cuba Designation as a State Sponsor of Terrorism (SST)

In accordance with section 6(j)(1) of the Export Administration Act of 1979 (50 U.S.C. App. 2405(j)), and as continued in effect by Executive Order 13222 of August 17,2001, section 620A(a) of the Foreign Assistance Act of 1961, Public Law 87-195, as amended (22 U.S.C. 2371(c)), and section 40(f) of the Arms Export Control Act, Public Law 90-629, as amended (22U.S.C. 2780(f), I hereby determine that the Republic of Cuba has repeatedly provided support for acts of international terrorism.

This notice shall be published in the Federal Register.

Dated: January 12, 2021.
Michael R. Pompeo,
Secretary of State.

[FR Doc. 2021-01416 Filed 1-21-21; 8:45 am]

BILLING CODE 4710-AD-P